ENVIRONMENTAL PROTECTION AGENCY

[EPA-HQ-OPP-2010-0014; FRL-9335-1]

Rescission of Certain Product Cancellations

AGENCY: Environmental Protection Agency (EPA).

ACTION: Notice.

SUMMARY: EPA issued notices in the Federal Register of August 31, 2011 and December 28, 2011, concerning the voluntary cancellation of multiple pesticide products. This document is being issued to rescind the cancellation of Baker Petrolite Corporation's (BPC) product, EPA Reg. No. 010707-00055; BioSafe Systems' products, EPA Reg. Nos. 070299-00001, 070299-00002, and 070299-00003; and Oregon's special local needs (SLN) registration, OR060026.

FOR FURTHER INFORMATION CONTACT: Maia Tatinclaux, Pesticide Re-evaluation Division (7508P), Office of Pesticide Programs, Environmental Protection Agency, 1200 Pennsylvania Ave. NW., Washington, DC 20460-0001; telephone number: (703) 347-0123; email address: tatinclaux.maia@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What does this rescission do?

This Notice rescinds the cancellation of BPC's product, EPA registration number 010707-00055, which appeared in FR Doc. 2011-22135, published in the Federal Register of August 31, 2011 (76 FR 54230) (FRL-8885-6). The Cancellation Order was issued following a Notice announcing the request to voluntarily cancel product 010707-00055 published in the Federal Register of January 19, 2011 (76 FR 31380(FRL-8857-1) . However, the request to voluntarily cancel this pesticide product had been rescinded on December 16, 2010 in a letter from BPC, and this product should not have been cancelled.

Additionally, this Notice rescinds the cancellations of BioSafe Systems' products, EPA Reg. Nos. 070299-00001, 070299-00002, 070299-00003 and Oregon's SLN, OR060026, which appeared in FR Doc. 2011-33252, published in the Federal Register of December 28, 2011 (76 FR 81496) (FRL-9326-6). The Cancellation Order was issued following a Notice announcing the request to voluntarily cancel these products published in the Federal Register of April 27, 2011 (76 FR 23588)(FRL-8870-6). However, BioSafe Systems, LLC never requested the cancellation of its products, and therefore EPA did not have the authority to cancel them. Additionally, the State of Oregon retracted their request to voluntarily cancel OR060026 on December 3, 2010 and this product should not have been cancelled.

Therefore, based on the discussion above, with this notice, cancellation of BPC's product, EPA Reg. No 010707-00055, X-cide 305, contained in the cancellation order published in the Federal Register on August 31, 2011, is hereby rescinded.

Cancellation of the following BioSafe Systems' products contained in the cancellation order published in the Federal Register on December 28, 2011 is hereby rescinded:

070299-00001, Zerotol Algaecide Fungicide, 070299-00002, Oxidate Broad Spectrum Bactericide/fungicide, and 070299-00003, Terracite.

In addition, the cancellation of Oregon's SLN, OR060026, also contained in the cancellation order published in the Federal Register on December 28, 2011 is rescinded.

In addition to the rescission of these cancellations, the existing stocks provisions contained in the August 31, 2011 cancellation order and the December 28, 2011 cancellation order are rescinded as those provisions apply to the products and registrations contained in this notice.

List of Subjects

Environmental protection, Pesticides and pest.

Dated: January 20, 2012.
Richard P. Keigwin, Jr.,
Director, Pesticide Re-evaluation Division, Office of Pesticide Programs.

[FR Doc. 2012-2209 Filed 1-31-12; 8:45 am]

BILLING CODE 6560-50-P